DEPARTMENT OF TRANSPORTATION

[Docket No. DOT-OST-2010-0284]

Agency Requests for Renewal of a Previously Approved Information Collection: Uniform Relocation Assistance and Real Property Acquisition Regulations for Federal and Federally Assisted Programs

AGENCY: Office of the Secretary, DOT.

ACTION: Notice and request for comments.

SUMMARY: The Department of Transportation (DOT) invites public comments about our intention to request the Office of Management and Budget's (OMB) approval to renew an information collection. The collection involves a certification of residency status from affected persons to establish eligibility for relocation assistance and payments. Displacing agencies will require each person who is to be displaced by a Federal or federally assisted project, as a condition of eligibility for relocation payments or advisory assistance, to certify that he or she is lawfully present in the United States. The information to be collected will be used to certify that a displaced person is lawfully present in the United States as required by Public Law 105-117 and 49 CFR 24.208. We are required to publish this notice in the Federal Register by the Paperwork Reduction Act of 1995, Public Law 104-13.

DATES: Please submit comments by January 24, 2011.

ADDRESSES: You may submit comments [identified by Docket Number DOT-OST-2004-169511] by any of the following methods:

• Federal eRulemaking Portal: Go to http://www.regulations.gov. Follow the online instructions for submitting comments.

• Fax: 1-202-493-2251.

• Mail or Hand Delivery: Docket Management Facility; U.S. Department of Transportation, 1200 New Jersey Avenue, SE., West Building, Room W12-140, Washington, DC 20590, between 9 a.m. and 5 p.m., Monday through Friday, except on Federal holidays.

FOR FURTHER INFORMATION CONTACT: Marshall Wainright, (202) 366-4842, Office of Real Estate Services, Federal Highway Administration, U.S. Department of Transportation, 1200 New Jersey Avenue, SE., Washington, DC 20590.

SUPPLEMENTARY INFORMATION: OMB Control No: 2105-0508.

Title: Uniform Relocation Assistance and Real Property Acquisition Regulations for Federal and Federally Assisted Programs.

Type of Review: Renewal of a previously approved information collection.

Background: This regulation implements amendments to 42 U.S.C. 4602 et seq. concerning acquisition of real property and relocation for displaced persons for Federal and federally-assisted programs. It prohibits the provision of relocation assistance and payments to persons not legally in the United States (with certain exceptions). The information collected consists of a certification of residency status from affected persons to establish eligibility for relocation assistance and payments. Displacing agencies will require each person who is to be displaced by a Federal or federally assisted project, as a condition of eligibility for relocation payments or advisory assistance, to certify that he or she is lawfully present in the United States.

Respondents: State highway agencies, local government highway agencies, and airport sponsors receiving financial assistance for expenditures of Federal Funds on acquisition and relocation payments and required services to displaced persons.

Frequency: On occasion.

Estimated Number of Respondents: 20,000.

Estimated Number of Responses: 1 per respondent.

Estimated Total Annual Burden: 25,000 hours.

Public Comments Invited: You are asked to comment on any aspect of this information collection, including: (a) Whether the proposed collection is necessary for the Department's performance; (b) the accuracy of the estimated burden; (c) ways for the Department to enhance the quality, utility, and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1.48.

Issued in Washington, DC, on November 17, 2010.
Patricia Lawton,
Departmental PRA Clearance Officer, Office of the Chief Information Officer.

[FR Doc. 2010-29609 Filed 11-23-10; 8:45 am]

BILLING CODE 4910-9X-P